DEPARTMENT OF COMMERCE

National Oceanic and Atmospheric Administration

RIN 0648-XY94

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species Management Team (CPSMT) and Scientific and Statistical Committee's Subcommittee on Coastal Pelagic Species (SSC Subcommittee) will hold a joint meeting that is open to the public.

DATES: The meeting will be held Tuesday, October 5 through Thursday, October 7. Business will begin each day at 8:30 a.m. and conclude Tuesday and Wednesday at 5 p.m. or until business for the day is completed. The meeting will conclude Thursday October 7 at 4 p.m. or when business for the day is completed.

ADDRESSES: The meeting will be held in the Green Room of the National Marine Fisheries Service's Southwest Fisheries Science Center; 8604 La Jolla Shores Drive, La Jolla, CA 92037.

FOR FURTHER INFORMATION CONTACT: Kerry Griffin, Staff Officer; telephone: (503) 820-2280.

SUPPLEMENTARY INFORMATION: The primary purpose of the meeting is to review the updated Pacific sardine stock assessment for 2010. Other issues relevant to Coastal Pelagic Species fisheries management and science may be addressed as time permits.

Although non-emergency issues not contained in the meeting agenda may come before the CPSMT and SSC Subcommittee for discussion, those issues may not be the subject of formal action during this meeting. CPSMT and SSC Subcommittee action will be restricted to those issues specifically listed in this notice and any issues arising after publication of this notice that require emergency action under Section 305(c) of the Magnuson-Stevens Fishery Conservation and Management Act, provided the public has been notified of the CPSMT's and SSC Subcommittee's intent to take final action to address the emergency.

Special Accommodations

This meeting is physically accessible to people with disabilities. Requests for sign language interpretation or other auxiliary aids should be directed to Ms. Carolyn Porter at (503) 820-2280 at least 5 days prior to the meeting date.

Dated: September 9, 2010.
Tracey L. Thompson,
Acting Director, Office of Sustainable Fisheries, National Marine Fisheries Service.

[FR Doc. 2010-22813 Filed 9-13-10; 8:45 am]

BILLING CODE 3510-22-S